DEPARTMENT OF COMMERCE

National Oceanic and Atmospheric Administration

RIN 0648-XC371

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits and Conservation Division, Office of Protected Resources, NMFS, 1315 East-West Highway, Room 13705, Silver Spring, MD 20910; phone (301)427-8401; fax (301)713-0376.

FOR FURTHER INFORMATION CONTACT: Office of Protected Resources, Permits and Conservation Division, (301)427-8401.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation (LOC) were issued in Fiscal Year 2012.

File No. 809-1902: Issued to the Virginia Aquarium & Marine Science Center Foundation, Virginia Beach, VA on February 21, 2007, was extended on March 8, 2012. The purpose of the research is to collect and maintain a long-term record of bottlenose dolphins (Tursiops truncatus) in the coastal waters of Virginia and to test the current stock hypothesis for Atlantic coastal dolphins. The expiration date of the LOC was extended from February 28, 2012 to November 30, 2012.

File No. 13427: Issued to Gregory D. Kaufman, Pacific Whale Foundation, Wailuku, HI on March 26, 2012, authorized an amendment to LOC No. 13427-03 to change the Principal Investigator to Itana Silva. This replaced version 13427-03, issued on July 26, 2011. A subsequent amendment to LOC No. 13427 was issued on July 9, 2012 to change the Principal Investigator to Emmanuelle Martinez. The LOC expires on June 15, 2013.

File No. 17263: Issued to the Alaska SeaLife Center, Seward, AK (Responsible Party: Tara Reimer Jones, Ph.D.), on June 1, 2012, for research on harbor seals (Phoca vitulina) in Alaska. Activities include (1) remote video monitoring of seals (installation, removal, repair, and maintenance of remote video cameras that require vessel and helicopter access), (2) aerial surveys and photo-ID of seals on land and ice haulouts, and (3) oceanographic surveys in ice habitats. Surveys may be conducted along the coastline on the southern Kenai Peninsula and western Prince William Sound, Alaska. Other marine mammals that may be harassed during surveys include: Dall's porpoise (Phocoenoides dalli); harbor porpoise (Phocoena phocoena); killer whale (Orcinus orca), excluding the endangered Southern resident distinct population segment; minke whale (Balaenoptera acutorostrata); and gray whale (Eschrichtius robustus), excluding the endangered Western North Pacific population. The LOC expires on May 31, 2017.

File No. 17245: Issued to John H. Schacke, Ph.D., Georgia Dolphin Ecology Program, Commerce, GA on June 4, 2012, to construct and supplement catalogs of individually identifiable bottlenose dolphins in the southeastern United States; to record behavioral observations of individual animals; and to document how bottlenose dolphins use the estuarine and near-shore waters of the Georgia coast. Research will occur within the coastal waters of Georgia, primarily between St. Catherine's and Altamaha Sounds, including embayments, rivers, and estuaries. Bottlenose dolphins of the Western North Atlantic South Carolina/Georgia Coastal Stock, Northern Georgia/Southern South Carolina Estuarine System Stock, and Southern Georgia Estuarine System Stock will be taken. The LOC expires on June 30, 2017.

File No. 17259: Issued to Paul Webb, Department of Biology, Roger Williams University, Bristol, RI on June 5, 2012, for level B harassment of Western North Atlantic stocks of harbor seals (Phoca vitulina concolor), gray seals (Halichoerus grypus), and harp seals (Pagophilus groenlandica) resulting from close approach, behavioral observations, and scat collection. The purpose of the research is to examine the demographic structure of the local populations and factors affecting the haul-out behavior of harbor seals at sites in Narragansett Bay. The LOC expires on June 15, 2017.

File No. 17260: Issued to Kayla Causey, Ph.D., California State University, Fullerton, CA, on June 11, 2012, to conduct photo-identification, observations, passive acoustic recordings, underwater videography, and focal follows during vessel surveys of the California coastal stock of bottlenose dolphins within Newport Harbor and the surrounding Orange County coastline of California. The purpose of the research is to (1) develop an activity budget of dolphins in Newport Harbor for comparison to dolphins in surrounding coastal zones; (2) provide a better understanding of the temporal scale of site fidelity in Newport Harbor and the Orange County region for a population of dolphins known to engage in long-shore reversals; (3) gain insight into dolphin social dynamics, structure, information transfer, and cognition using underwater observation; and (4) determine how dolphins respond to vessels and people in the region. Other marine mammals that may be harassed during surveys include: California sea lions (Zalophus californianus), harbor seals, common dolphins (Delphinus delphis and D. capensis), and Risso's dolphins (Grampus griseus). The LOC expires on June 15, 2017.

In compliance with the National Environmental Policy Act of 1969 (42 U.S.C. 4321 et seq.), a final determination has been made that the activities are categorically excluded from the requirement to prepare an environmental assessment or environmental impact statement.

Dated: December 7, 2012.
P. Michael Payne,
Chief, Permits and Conservation Division, Office of Protected Resources, National Marine Fisheries Service.

[FR Doc. 2012-29971 Filed 12-11-12; 8:45 am]

BILLING CODE 3510-22-P